DEPARTMENT OF AGRICULTURE

Federal Crop Insurance Corporation

7 CFR Part 457

Common Crop Insurance Regulations; Forage Production and Forage Seeding Crop Insurance Provisions; Correction

AGENCY: Federal Crop Insurance Corporation, USDA.

ACTION: Final rule; correction.

SUMMARY: This document contains corrections to the final regulation which was published Tuesday, January 25, 2000 (65 FR 3782-3785). The regulation pertains to the insurance of Forage Production and Forage Seeding.

EFFECTIVE DATE: February 24, 2000.

FOR FURTHER INFORMATION CONTACT: Richard Brayton, Insurance Management Specialist, Product Development Division, Federal Crop Insurance Corporation, United States Department of Agriculture, 9435 Holmes Road, Kansas City, MO 64131, telephone (816) 926-7730.

SUPPLEMENTARY INFORMATION:

Background

The final regulation that is the subject of this correction was intended to provide policy changes to better meet the needs of the insured.

Need for Correction

As published, the final regulations contained errors which may prove misleading and are in need of clarification. This rule is necessary to correct the Forage Production Regulations as follows: (1) The definitions of fall planted and spring planted were deleted in the proposed and final rules due to recommendations that they were not necessary in the Forage Production Crop Provisions because the initial year the forage is planted it is insured under the Forage Seeding Crop Provisions. Although the above is true, it was later determined that the definitions were still necessary in the Forage Production Crop Provisions to clarify the year of establishment for both fall and spring planted forage because forage is not insurable under the Forage Production Crop Provisions until after the year of establishment; (2) The dates contained in the insurance period section are corrected to specify separate dates that insurance attaches for spring and fall planted acreage in specific states and counties. This allows forage acreage to be insured continuously with no lapse, or overlap, in coverage between the insurance period under the Forage Seeding and Forage Production Crop Provisions. It was also discovered that since the final rule only referred to the calendar year following the year of establishment, there could be confusion regarding the dates insurance attaches for calendar years subsequent to the calendar year following the date of establishment so these dates have also been included; and (3) The date insurance ends under the Forage Production Crop Insurance Provisions for Lassen, Modoc, Mono Shasta and Siskiyou counties, California was corrected to November 30 to provide continuous coverage.

The proposed and final rules for the Forage Seeding Crop Provisions listed cancellation and termination dates for certain named states, but omitted the cancellation and termination dates for all other states. This corrected rule adds the cancellation and termination dates of March 15 for all other states.

Correction of Publication

Accordingly, the publication on January 25, 2000, of the final regulation at 65 FR 3782-3785 is corrected as follows:

PART 457—[CORRECTED]

§ 457.117 [Corrected]

* * * * *

On page 3783, in the third column in § 457.117, in the crop provisions section 1, add definitions for “fall planted” and “spring planted” to read as follows:

Fall planted. A forage crop seeded after June 30.

Spring planted. A forage crop seeded before July 1.

* * * * *

On page 3784, in the first column in § 457.117, in the crop provisions sections 7(a) and (b)(6) are corrected to read as follows:

(a) Insurance attaches on acreage with an adequate stand on the following dates:

(1) For the calendar year following the year of seeding for:

(i) Spring planted forage in Lassen, Modoc, Mono, Shasta and Siskiyou Counties California, Colorado, Idaho, Nebraska, Nevada, Oregon, Utah and Washington—April 15;

(ii) Spring planted forage in Iowa, Minnesota, Montana, New Hampshire, New York, North Dakota, Pennsylvania, Wisconsin, Wyoming and all other states—May 22;

(iii) Fall planted forage in Lassen, Modoc, Mono, Shasta and Siskiyou Counties California, and all other states—October 16;

(iv) Fall planted forage in all California counties except Lassen, Modoc, Mono, Shasta, and Siskiyou—December 1.

(2) For the calendar year of seeding for spring planted acreage in all California counties except Lassen, Modoc, Mono, Shasta and Siskiyou—December 1.

(3) For calendar years subsequent to the calendar year following the year of seeding for:

(i) Lassen, Modoc, Mono, Shasta and Siskiyou California counties, and all other states—October 16;

(ii) All California counties except Lassen, Modoc, Mono, Shasta and Siskiyou—December 1.

(b) * * *

(6) The following dates of the crop year:

(i) For Lassen, Modoc, Mono, Shasta, and Siskiyou Counties California and all other states—October 15;

(ii) For all California counties except Lassen, Modoc, Mono, Shasta and Siskiyou—November 30.

* * * * *

§ 457.151 [Corrected]

On page 3785, the first column in § 457.151, section 5 is corrected to read as follows:

In accordance with section 2 of the Basic Provisions, the cancellation and termination dates are:

State and county | Cancellation/termination dates
California, Nevada, New Hampshire, New York, Pennsylvania, and Vermont | July 31
All other states | March 15

Signed in Washington D.C. on February 28, 2000.
Kenneth D. Ackerman,
Manager, Federal Crop Insurance Corporation.

[FR Doc. 00-5163 Filed 3-2-00; 8:45 am]

BILLING CODE 3410-08-P